DEPARTMENT OF LABOR

Employment and Training Administration

Workforce Innovation and Opportunity Act; Native American Employment and Training Council

AGENCY: Employment and Training Administration, U.S. Department of Labor.

ACTION: Notice of meeting.

SUMMARY: Pursuant to section 10(a)(2) of the Federal Advisory Committee Act (FACA), as amended, and Section 166(i)(4) of the Workforce Innovation and Opportunity Act (WIOA), notice is hereby given of the next meeting of the Native American Employment and Training Council (NAETC or Council), as constituted under WIOA.

DATES: The meeting will begin at 1 p.m., (Eastern Daylight Time) on Thursday, May 16, 2024, and continue until 5 p.m. The meeting will reconvene at 9:00 a.m., on Friday, May 17, 2024, and adjourn at 5 p.m. The period from 3 p.m. to 4 p.m., on May 17, 2024, is reserved for participation and comment by members of the public.

ADDRESSES: The meeting will be held in person at the Rosen Plaza Hotel, 9700 International Dr., Orlando, FL 32819. The meeting will also be accessible virtually on the Zoom.gov platform. To join the meeting use the following URL: https://www.zoomgov.com/j/1600140228?pwd=YkZCQmFmTzdqQkwzais1UDZXQlJRZz09.

SUPPLEMENTARY INFORMATION: Council members and members of the public are encouraged to logon to Zoom.gov early to allow for connection issues and troubleshooting.

The meeting will be open to the public. Members of the public not present may submit a written statement by Friday, May 10, 2024, to be included in the record of the meeting. Statements are to be submitted to the U.S. Department of Labor Division of Indian and Native American Programs (DINAP) at DINAP@dol.gov. Persons who need special accommodations should contact Nathaniel Coley at 202-693-4287 or Coley.Nathaniel.D@dol.gov two business days before the meeting. The formal agenda will focus on the following topics: (1) Updates from the Employment and Training Administration; (2) Overview of the Federal Advisory Committee Act; (3) Election of NAETC Officers (4) DINAP updates; (5) NAETC sub-committee and workgroup updates; and (6) public comment.

FOR FURTHER INFORMATION CONTACT: Nathaniel Coley, Designated Federal Officer, Division of Indian and Native American Programs, Employment and Training Administration, U.S. Department of Labor, Room S-4209, 200 Constitution Avenue NW, Washington, DC 20210. Telephone number (202) 693-4287 (VOICE) (this is not a toll-free number) or coley.nathaniel.d@dol.gov.

Laura P. Watson,
Deputy Assistant Secretary for Employment and Training, Labor.

[FR Doc. 2024-07975 Filed 4-15-24; 8:45 am]

BILLING CODE 4510-FR-P